ENVIRONMENTAL PROTECTION AGENCY

40 CFR Parts 174 and 180

[EPA-HQ-OPP-2025-0028; FRL-12474-05-OCSPP]

Receipt of Pesticide Petitions Filed for Residues of Pesticide Chemicals in or on Various Commodities (February-May 2025)

AGENCY: Environmental Protection Agency (EPA).

ACTION: Notice of filing of petitions and request for comment.

SUMMARY: This document announces the Agency's receipt of and solicits public comment on initial filings of pesticide petitions requesting the establishment or modification of regulations for residues of pesticide chemicals in or on various commodities. The Agency is providing this notice in accordance with the Federal Food, Drug, and Cosmetic Act (FFDCA). EPA uses the month and year in the title to identify when the Agency compiled the petitions identified in this notice of filing. Unit II. of this document identifies certain petitions received in 2023, 2024 and 2025 that are currently being evaluated by EPA, along with information about each petition, including who submitted the petition and the requested action.

DATES: Comments must be received on or before August 4, 2025.

ADDRESSES: Submit your comments, identified by docket identification (ID) number and the pesticide petition (PP) of interest identified in Unit II. of this document, online at https://www.regulations.gov. Follow the online instructions for submitting comments. Do not submit electronically any information you consider to be Confidential Business Information (CBI) or other information whose disclosure is restricted by statute. Additional instructions on commenting and visiting the docket, along with more information about dockets generally, is available at https://www.epa.gov/dockets.

FOR FURTHER INFORMATION CONTACT: Each application summary in Unit II. specifies a contact division. The appropriate division contacts are identified as follows:

• BPPD (Biopesticides and Pollution Prevention Division) (Mail Code 7511M); Shannon Borges; main telephone number: (202) 566-1400; email address: BPPDFRNotices@epa.gov; or

• RD (Registration Division) (Mail Code 7505T); Charles Smith; main telephone number: (202) 566-1030; email address: RDFRNotices@epa.gov.

SUPPLEMENTARY INFORMATION:

I. Executive Summary

A. Does this action apply to me?

This action provides information that is directed to the public in general.

B. What is the Agency's authority for taking this action?

EPA regulations for residues of pesticide chemicals in or on various food commodities are established under section 408 of the Federal Food, Drug, and Cosmetic Act (FFDCA), 21 U.S.C. 346a. FFDCA section 408(d)(3), 21 U.S.C. 346a(d)(3), requires EPA to publish a notice of the filing of these petitions in the Federal Register and provide an opportunity for public comment on the requests.

C. What action is the Agency taking?

As specified in FFDCA section 408(d)(3), 21 U.S.C. 346a(d)(3), EPA is publishing notice of the receipt of pesticide petitions filed under FFDCA section 408 that request the establishment or modification of regulations for residues of pesticide chemicals in or on various food commodities. The Agency is taking public comment on the requests before responding to the petitioner. Pursuant to 40 CFR 180.7(f), a summary of the petition identified in this document, prepared by the petitioner, is included in a docket. EPA has determined that the pesticide petitions described in this document contain data or information prescribed in FFDCA section 408(d)(2), 21 U.S.C. 346a(d)(2), and 40 CFR 180.7(b); however, EPA has not fully evaluated the sufficiency of the submitted data at this time or whether the data supports granting the pesticide petitions. After considering the public comments, EPA intends to evaluate whether and what action may be warranted. Additional data may be needed before EPA can make a final determination on these pesticide petitions.

Based upon review of the data supporting these petitions and in accordance with its authority under FFDCA section 408(d)(4)(A)(i), EPA may establish a final tolerance or tolerance exemption that “may vary from that sought by the petitioner.” For example, EPA may determine that it is appropriate to vary the commodity name for consistency with EPA's Food and Feed Commodity Vocabulary, which is located here https://www.epa.gov/pesticide-tolerances/food-and-feed-commodity-vocabulary, or vary the tolerance level based on available data, harmonization interests, or the trailing zeros policy. In addition, when evaluating a petition's requests for a tolerance or exemption, EPA will consider how use of the pesticide on a crop for which a tolerance is requested may result in residues in or on commodities related to that requested commodity (e.g., whether use on sugar beets for which a tolerance was requested on sugar beet root also requires a tolerance on sugar beet tops or whether use on a cereal grain for which a grain tolerance was requested also requires a tolerance on related animal feed commodities derived from that cereal grain). Public commenters should consider the possibility of such revisions in preparing comments on these petitions.

D. What should I consider as I prepare my comments for EPA?

1. Submitting CBI. Do not submit CBI to EPA through https://www.regulations.gov or email. If you wish to include CBI in your comment, please follow the applicable instructions at https://www.epa.gov/dockets/commenting-epa-dockets#rules and clearly mark the information that you claim to be CBI. In addition to one complete version of the comment that includes CBI, a copy of the comment without CBI must be submitted for inclusion in the public docket. Information marked as CBI will not be disclosed except in accordance with procedures set forth in 40 CFR part 2.

2. Tips for preparing your comments. When preparing and submitting your comments, see the commenting tips at https://www.epa.gov//epa-dockets.

II. Petitions Received

This unit provides the following information about the petitions:

• The Pesticide Petition (PP) Identification (IN) number;

• EPA docket ID number for the petition;

• Information about the petition (i.e., name of the petitioner, name of the pesticide chemical residue and the commodities for which a tolerance or exemption is sought);

• The analytical method available to detect and measure the pesticide chemical residue or the petitioner's statement about why such a method is not needed; and

• The division to contact for that petition.

Additional information on the petitions may be obtained through the petition summaries that were prepared by the petitioners pursuant to 21 U.S.C. 346a(d)(2)(A)(i)(I) and 40 CFR 180.7(b)(1), which are included in the docket for the petition as identified in this unit.

• PP 4E9107. (EPA-HQ-OPP-2024-0202). Interregional Research Project Number 4 (IR-4), IR-4 Project Headquarters, North Carolina State University, 1730 Varsity Drive, Venture IV, Suite 210, Raleigh, NC 27606, requests to amend the tolerances in 40 CFR 180.544 by removing the established tolerances for residues of the insecticide methoxyfenozide (3-methoxy-2-methylbenzoic acid 2-(3,5-dimethylbenzoyl)-2-(1,1-dimethylethyl) hydrazide) including its metabolites and degradates in or on the raw agricultural commodities: Bean, adzuki, dry seed at 0.5 ppm; bean, American potato, dry seed at 0.5 ppm; bean, asparagus, dry seed at 0.5 ppm; bean, asparagus, edible podded at 2 ppm; bean, black, dry seed at 0.5 ppm; bean, broad, dry seed at 0.5 ppm; bean, broad, succulent shelled at 0.3 ppm; bean, catjang, dry seed at 0.5 ppm; bean, catjang, edible podded at 2 ppm; bean, catjang, succulent shelled at 0.3 ppm; bean, cranberry, dry seed at 0.5 ppm; bean, dry, dry seed at 0.5 ppm; bean, field, dry seed at 0.5 ppm; bean, French, dry seed at 0.5 ppm; bean, French, edible podded at 2 ppm; bean, garden, dry seed at 0.5 ppm; bean, garden, edible podded at 2 ppm; bean, goa, dry seed at 0.5 ppm; bean, goa, edible podded at 2 ppm; bean, goa, succulent shelled at 0.3 ppm; bean, great northern, dry seed at 0.5 ppm; bean, green, dry seed at 0.5 ppm; bean, green, edible podded at 2 ppm; bean, guar, dry seed at 0.5 ppm; bean, guar, edible podded at 2 ppm; bean, kidney, dry seed 0.5 ppm; bean, kidney, edible podded at 2 ppm; bean, lablab, dry seed at 0.5 ppm; bean, lablab, edible podded at 2 ppm; bean, lablab succulent shelled 0.3 ppm; bean, lima, dry seed at 0.5 ppm; bean, lima, succulent shelled at 0.3 ppm; bean, morama, dry seed at 0.5 ppm; bean, moth, dry seed at 0.5 ppm; bean, moth edible podded at 2 ppm; bean, moth, succulent shelled at 0.3 ppm; bean, mung, edible podded at 2 ppm; bean, navy, dry seed at 0.5 ppm; bean, navy, edible podded at 2 ppm; bean, pink, dry seed at 0.5 ppm; bean, pinto, dry seed at 0.5 ppm; bean, red, dry seed at 0.5 ppm; bean, rice, dry seed at 0.5 ppm; bean, rice, edible podded at 2 ppm; bean, scarlet runner, dry seed at 0.5 ppm; bean, scarlet runner, edible podded at 2 ppm; bean, scarlet runner, succulent shelled at 0.3 ppm; bean, snap, edible podded at 2 ppm; bean, sword, dry seed at 0.5 ppm; bean, sword, edible podded at 2 ppm; bean, tepary, dry seed at 0.5 ppm; bean, urd, dry seed at 0.5 ppm; bean, urd, edible podded at 2 ppm; bean, wax, edible podded at 2 ppm; bean, wax, succulent shelled at 0.3 ppm; bean, yard long, dry seed at 0.5 ppm; bean, yard long, edible podded at 2 ppm; bean, yellow, dry seed at 0.5 ppm; chickpea, dry seed at 0.5 ppm; chickpea, edible podded at 2 ppm; chickpea, succulent shelled at 0.3 ppm; corn, field, grain at 0.05 ppm; corn, pop, grain at 0.05 ppm; corn, sweet, kernel plus cob with husks removed at 0.05 ppm; cowpea, dry seed at 0.5 ppm; cowpea, edible podded at 2 ppm; cowpea, succulent shelled at 0.3 ppm; feijoa at 0.4 ppm; gram, horse, dry seed at 0.5 ppm; grass pea, dry seed at 0.5 ppm; grass pea, edible podded at 2 ppm; guava at 0.4 ppm; jaboticaba at 0.4 ppm; jack bean, dry seed at 0.5 ppm; jack bean, edible podded at 2 ppm; jack bean, succulent shelled at 0.3 ppm; lentil, dry seed at 0.5 ppm; lentil, edible podded at 2 ppm; lentil, succulent shelled at 0.3 ppm; long bean, Chinese, dry seed at 0.5 ppm; long bean, Chinese, edible podded at 2 ppm; lupin, Andean, succulent shelled at 0.3 ppm; lupin, blue, dry seed at 0.5 ppm; lupin, blue, succulent shelled at 0.3 ppm; lupin, grain, dry seed at 0.5 ppm; lupin, grain, succulent shelled at 0.3 ppm; lupin, sweet, dry seed at 0.5 ppm; lupin, sweet, succulent shelled at 0.3 ppm; lupin, sweet white, dry seed at 0.5 ppm; lupin, sweet white, succulent shelled at 0.3 ppm; lupin, white, dry seed at 0.5 ppm; lupin, white, succulent shelled at 0.3 ppm; lupin, yellow, dry seed at 0.5 ppm; lupin, yellow, succulent shelled at 0.3 ppm; pea, blackeyed, succulent shelled at 0.3 ppm; pea, crowder, dry seed at 0.5 ppm; pea, crowder, succulent shelled at 0.3 ppm; pea, dry, dry seed at 0.5 ppm; pea, dwarf, edible podded at 2 ppm; pea, English, succulent shelled 0.3 ppm; pea, field, dry seed at 0.5 ppm; pea, garden, dry seed at 0.5 ppm; pea, garden, succulent shelled at 0.3 ppm; pea, green, dry seed at 0.5 ppm; pea, green, edible podded at 2 ppm; pea, green, succulent shelled at 0.3 ppm; pea, pigeon, dry seed at 0.5 ppm; pea, pigeon, edible podded at 2 ppm; pea, pigeon, succulent shelled at 0.3 ppm; pea, snap, edible podded at 2 ppm; pea, snow edible podded at 2 ppm; pea, southern, succulent shelled at 0.3 ppm; pea, sugar snap, edible podded at 2 ppm; pea, winged, dry seed at 0.5 ppm; pea, winged, edible podded at 2 ppm; rice, grain at 30 ppm; sorghum, grain at 6 ppm; sorghum, sweet, grain at 6 ppm; soybean, vegetable, dry seed at 0.5 ppm; soybean, vegetable, edible podded at 2 ppm; soybean, vegetable, succulent shelled at 0.3 ppm; starfruit at 0.4 ppm; velvet bean, dry seed at 0.5 ppm; velvet bean, edible podded at 2 ppm; velvet bean, succulent shelled at 0.3 ppm; and yam bean, African, dry seed at 0.5 ppm. Adequate single methods are available for tolerance enforcement in primary crops and animal commodities. Contact: RD.

• PP IN-11998. (EPA-HQ-OPP-2025-0079). Spring Regulatory Sciences, 6620 Cypresswood Dr., Suite 250, Spring, TX 77379 on behalf of Ashland Specialty Ingredients G.P. (8145 Blazer Drive, Wilmington, DE 19808) requests to establish an exemption from the requirement of a tolerance for residues of Castor oil, polymer with 2-ethylhexanol, maleic anhydride and soybean oil, sodium salt (CAS Reg. No. 3057850-65-1) with a minimum number average molecular weight (in amu) of 4571 when used as a pesticide inert ingredient in pesticide formulations under 40 CFR 180.960. The petitioner believes no analytical method is needed because it is not required for an exemption from the requirement of a tolerance. Contact: RD.

• PP 4F9109. (EPA-HQ-OPP-2024-0284). WeedOUT, Ltd., c/o Ephi Gur Regulatory Consulting Inc., 2736 S. Evenfall Dr., Yuma, AZ 85635, requests to establish an exemption from the requirement of a tolerance in 40 CFR part 180 for residues of the herbicide, WDT-1, an irradiated pollen derived from non-glyphosate resistant varieties of Palmer Amaranth (Amaranthus palmeri) in or on all food commodities. The petitioner believes no analytical method is needed because therefore, the requirement to provide an analytical method for the detection of WDT-1 in agricultural commodities or processed foods is not applicable. Contact: BPPD.

• PP 4F9111. (EPA-HQ-OPP-2024-0486). FMC Corporation, 2929 Walnut Street, Philadelphia, PA 19104, requests to establish an exemption from the requirement of a tolerance in 40 CFR part 180 for residues of the microbial insecticide and nematicide Bacillus thuringiensis strain RTI545 in or on all food and feed commodities. The petitioner believes no analytical method is needed because when used as proposed, Bacillus thuringiensis strain RTI545 would not result in residues that are of toxicological concern. Contact: BPPD.

• PP 4E9107. (EPA-HQ-OPP-2024-0202). Interregional Research Project Number 4 (IR-4), IR-4 Project Headquarters, North Carolina State University, 1730 Varsity Drive, Venture IV, Suite 210, Raleigh, NC 27606, requests to establish tolerances in 40 CFR 180.544 for residues of the insecticide methoxyfenozide (3-methoxy-2-methylbenzoic acid 2-(3,5-dimethylbenzoyl)-2-(1,1-dimethylethyl) hydrazide) including its metabolites and degradates in or on the raw agricultural commodities: Edible podded bean subgroup 6-22A at 2 parts per million (ppm); edible podded pea subgroup 6-22B at 2 ppm; field corn subgroup 15-22C at 0.05 ppm; grain sorghum and millet subgroup 15-22E at 6 ppm; pulses, dried shelled bean, except soybean, subgroup 6-22E, except pea, blackeyed, seed and pea, southern, seed at 0.5 ppm; pulses, dried shelled pea subgroup 6-22F at 0.5 ppm; succulent shelled bean subgroup 6-22C at 0.3 ppm; succulent shelled pea subgroup 6-22D at 0.3 ppm; sweet corn subgroup 15-22D 0.05 ppm; and tropical and subtropical, medium to large fruit, edible peel, subgroup 23B at 6ppm; and to establish a regional tolerance for residues of the insecticide methoxyfenozide (3-methoxy-2-methylbenzoic acid 2-(3,5-dimethylbenzoyl)-2-(1,1-dimethylethyl) hydrazide) including its metabolites and degradates in or on Rice subgroup 15-22F at 30 ppm. Adequate single methods are available for tolerance enforcement in primary crops and animal commodities. Contact: RD.

• PP 4E9122. (EPA-HQ-OPP-2024-0330). UPL Delaware, Inc., 630 Freedom Business Center, Suite 402, King of Prussia, PA 19406, requests to establish an import tolerance in 40 CFR part 180 for residues of the herbicide amicarbazone in or on sugarcane, cane at 0.2 parts per million (ppm) and sugarcane, molasses at 0.5 ppm. The LC-MS/MS method is used to measure and evaluate the chemical amicarbazone. Contact: RD.

• PP 4E9103. (EPA-HQ-OPP-2024-0460). American Spice Trade Association, 2025 M Street NW, Suite 800, Washington, DC 20036, requests to establish a tolerance in 40 CFR part 180 for residues of the fungicide azoxystrobin in or on: pepper, black at 1 part per million (ppm). The gas chromatography multi-residue method: GC-MS-MS/LC-MS-MS was used to measure and evaluate the chemical azoxystrobin. Contact: RD.

• PP 4F9155. (EPA-HQ-OPP-2024-0630). The American Spice Trade Association, 1101 17th Street NW, Suite 700, Washington DC 20036, requests to establish tolerances in 40 CFR part 180 for residues of the insecticide, imidacloprid, in or on pepper, black at 0.05 parts per million (ppm). The LC-MS/MS method is used to measure and evaluate the chemical imidacloprid. Contact: RD.

• PP 4F9156. (EPA-HQ-OPP-2024-0631). The American Spice Trade Association, 1101 17th Street NW, Suite 700, Washington DC 20036, requests to establish tolerances in 40 CFR part 180 for residues of the insecticide, thiamethoxam, in or on pepper, black at 0.1 parts per million (ppm). The LC-MS/MS method is used to measure and evaluate the chemical thiamethoxam. Contact: RD.

• PP 4F9157. (EPA-HQ-OPP-2025-0071). American Spice Trade Association, Inc. 1101 17th Street NW, Suite 700, Washington, DC 20036, requests to establish an import tolerance in 40 CFR part 180 for residues of the pesticide, permethrin, in or on black pepper at 0.1 parts per million (ppm). The LC-MS/MS analytical methods are used to measure and evaluate the chemical permethrin. Contact: RD

• PP 4F9164. (EPA-HQ-OPP-2025-0119). ISK Biosciences Corporation, 7470 Auburn Road, Suite A, Concord, OH 44077, requests to establish a tolerance in 40 CFR part 180 for residues of the herbicide Tolpyralate, 1-[[1-Ethyl-4-[3-(2-methoxyethoxy)-2-methyl-4-(methylsulfonyl)benzoyl]-1H-pyrazol-5-yl]oxy]ethyl methyl carbonate (CAS), including its metabolite MT-2153 in or on wheat subgroup 15-22A, grain at 0.01 parts per million (ppm); wheat subgroup 15-22A, forage at 0.02 ppm; wheat subgroup 15-22A, hay at 0.05 ppm; wheat subgroup 15-22A, straw at 0.03 ppm; barley subgroup 15-22B, grain at 0.01 ppm; barley subgroup 15-22B, hay at 0.20 ppm; and barley subgroup 15-22B, straw at 0.08 ppm. Liquid Chromatography-MS/MS is used to measure and evaluate the chemical tolpyralate. Contact: RD

• PP 5E9172. (EPA-HQ-OPP-2025-0127). The Interregional Research Project #4, IR-4, North Carolina State University, 1730 Varsity Drive Venture IV, Suite 210, Raleigh, North Carolina 27606, requests to establish tolerances in 40 CFR part 180 for residues of the insecticide, acetamiprid, in or on Dragon fruit at 3 parts per million (ppm); sunflower subgroup 20B at 1.5 ppm; vegetable, legume, bean, edible podded, subgroup 6-22A at 0.6 ppm; vegetable, legume, bean, succulent shelled, subgroup 6-22C at 0.4 ppm; vegetable, legume, pea, edible podded, subgroup 6-22B at 0.6 ppm; vegetable, legume, pea, succulent shelled, subgroup 6-22D at 0.4 ppm parts per million (ppm). The GC/ECD, HPLC/UV, GC-MS/MS and LC-MS/MS methods are used to measure and evaluate the chemical acetamiprid. Contact: RD.

• PP IN-11864. EPA-HQ-OPP-2025-0147. Eastman Chemical Company, 200 S. Wilcox Drive, Kingsport, TN, 37660, requests to establish an exemption from the requirement of a tolerance for residues of propanol, oxybis-, dibenzoate (CASRN 27138-31-4) when used as a pesticide inert ingredient (solvent) in pesticide formulations under 40 CFR 180.910. The petitioner believes no analytical method is needed because it is not required for an exemption from the requirement of a tolerance. Contact: RD.

• PP IN-11878. EPA-HQ-OPP-2025-0155. Ashland Specialty Ingredients G.P., 8145 Blazer Drive, Wilmington, DE, 19808, requests to establish an exemption from the requirement of a tolerance for residues of polyethylhexyl glycidyl ether polyethylene oxide copolymer (CAS Reg. No. 82780-16-3) when used as a pesticide inert ingredient (wetting agent or surfactant) in pesticide formulations under 40 CFR 180.910 with a limitation of 10% in pesticide formulations. The petitioner believes no analytical method is needed because it is not required for an exemption from the requirement of a tolerance. Contact: RD.

• PP 4E9114. EPA-HQ-OPP-2025-0176. Silvec Biologics Inc. 200 Girard Street, Suite 200, Gaithersburg, MD 20877, requests to establish an exemption from the requirement of a tolerance in 40 CFR part 180 for residues of the plant pesticides Spinach defensin genes 2 (SoD2, SoD2-1, SoD2*), expressed in Citrus tristeza virus (CTV) strain T36 (CTV-SoD2, CTV-SoD2-1 and CTV-SoD2*) in or on Citrus Fruit Group 10-10. The petitioner believes no analytical method is needed because an exemption from the requirement of a tolerance is being sought. Contact: BPPD.

• PP 4E9159. EPA-HQ-OPP-2025-0212. Soil Culture Solutions, LLC (d/b/a Soilcea), 3802 Spectrum Blvd., Suite 157, Tampa, FL 33612, requests to establish an exemption from the requirement of a tolerance in 40 CFR part 174 for residues of the plant-incorporated protectant (PIP) Cas9 protein in or on Citrus Group 10-10. The petitioner believes no analytical method is needed because an exemption from the requirement of a tolerance is being sought. Contact: BPPD.

• PP 3F9070. EPA-HQ-OPP-2024-0071. Nichino America, Inc., 4550 Linden Hill Road, Suite 501, Wilmington, DE 19808, requests to establish a tolerance in 40 CFR 180 for residues of the herbicide pyraflufen-ethyl including its metabolites and degradates in or on oat, grain at 0.01 parts per million (ppm); oat, forage at 0.01 ppm; oat, hay at 0.01 ppm; and oat, straw at 0.01ppm. The high-performance liquid chromatography (HPLC) employing tandem mass spectrometry (MS/MS) is used to measure and evaluate the chemical pyraflufen-ethyl. Contact: RD.

• PP 4F9108. EPA-HQ-OPP-2025-0179. Valent BioSciences LLC, requests to establish a tolerance in 40 CFR part 180 for residues of the plant regulator 6-benzyladenine in or on soybeans at 0.01 parts per million (ppm). Liquid chromatography with mass-selective (MS/MS) detection is used to measure and evaluate the chemical 6-benzyladenine. Contact: BPPD.

• PP 4F9150. EPA-HQ-OPP-2025-0128. Corteva Agriscience, 9330 Zionsville Road, Indianapolis, IN 46268, requests to establish tolerances in 40 CFR part 180 for residues of the insecticide fluazaindolizine in or on Berry, low growing, subgroup 13-07G at 0.15 ppm; Fruit, small vine climbing (except fuzzy kiwifruit), subgroup 13-07F at 0.04 ppm; Nut, tree, group 14-12 at 0.04 ppm. The HPLC-MS/MS method is used to measure and evaluate the chemical fluazaindolizine. Contact: RD.

• PP: 4F9151. Docket ID number: EPA-HQ-OPP-2025-0041. Applicant: ISK Biosciences Corporation, 7470 Auburn Rd., Suite A, Concord, OH 44027 Active ingredient: Isofetamid. Product type: Fungicide. Requests to remove tolerances in 40 CFR part 180 for residues of the fungicide isofetamid including its metabolites and degradates in or on the raw agricultural commodities: Almonds at 0.01 ppm, Almond hulls at 0.01 ppm. Contact: RD.

• PP: 4F9151. Docket ID number: EPA-HQ-OPP-2025-0041. Applicant: ISK Biosciences Corporation, 7470 Auburn Rd., Suite A, Concord, OH 44027 Active ingredient: Isofetamid. Product type: Fungicide. Requests to establish tolerances in 40 CFR part 180 for residues of the fungicide isofetamid including its metabolites and degradates in or on the raw agricultural commodities: Tree nut, crop group 14-12 at 0.15 ppm, Almond hulls at 15 ppm. The analytical method using solvent extraction, and SPE clean-up, with subsequent quantification of residues by liquid chromatography with tandem mass spectrometry (LC-MS/MS), is used to measure and evaluate the chemical isofetamid and its metabolites. Contact: RD.

• PP5E9169. EPA-HQ-OPP-2025-0080 The Interregional Research Project No. 4 (IR-4), IR-4 Project Headquarters, North Carolina State University, 1730 Varsity Drive, Venture IV, Suite 210, Raleigh, NC 27606, requests to establish tolerances in 40 CFR part 180.222 for residues of the herbicide prometryn 2,4-bis(isopropylamino)-6-methylthio-s-triazine, including its metabolites and degradates, in or on the following raw agricultural commodity leek at 0.05 parts per million. The control and treated samples were analyzed using a working method very similar to the reference method, “Analytical Method for the Determination of Prometryn and Metabolites GS-11354 and GS-26831 in Celery, Cottonseed, and Cottonseed Fractions.” methods using microcoulometric, thermionic, or FPD/S detectors. (Method AG-559), using a flame photometric detector in the sulfur mode (FPD/S) has undergone a successful independent laboratory validation. Contact: RD.

• PP 5F9178. EPA-HQ-OPP-2025-0217. McLaughlin Gormley King Company D/B/A MGK, requests to establish a tolerances in 40 CFR part 180 for residues of the insecticide veratrine (sabadilla alkaloids) in or on Leafy Greens (Crop Subgroup 4-16A) at 6 ppm; Fruiting Vegetables (Crop Group 8-10) at 0.08 ppm; Avocado at 0.07 ppm. The HPLC-MS/MS method is used to measure and evaluate the chemical veratrine (sabadilla alkaloids). Contact: RD.

• PP IN-11962. (EPA-HQ-OPP-2025-0286). Elicit Plant S.A.S., 1 Passage de la Croix, Lieu-dit le chataignier, 16220 Moulins-sur-tardoire, France requests to establish an exemption from the requirement of a tolerance for residues of D-Glucopyranoside, β-D-fructofuranosyl, mixed palmitates and stearates (CAS Reg. No 84066-95-5) when used as inert ingredient in pesticide formulations applied pre-harvest under 40 CFR 180.920. The petitioner believes no analytical method is needed because it is not required for an exemption from the requirement of a tolerance. Contact: RD.

• IN-12106. (EPA-HQ-OPP-2025-0287). ChemReg Compliance Solutions, LLC (CRCS), (131 N. Donelson Street, Alexandria, VA 22304), on behalf of Covestro LLC, (1 Covestro Circle, Pittsburgh, PA 15205), requests to establish an exemption from the requirement of a tolerance for residues of Hexanedioic acid, polymer with sodium 2-[(2-aminoethyl)amino]ethanesulfonate (1:1), 1,6-diisocyanatohexane, 2,2-dimethyl-1,3-propanediol, 1,2-ethanediamine and 1,6-hexanediol; (CAS Reg. No. 67815-81-0); minimum average number molecular weight (in amu) of 64,943 when used as a pesticide inert ingredient in pesticide formulations under 40 CFR 180.960. The petitioner believes no analytical method is needed because it is not required for an exemption from the requirement of a tolerance. Contact: RD.

(Authority: 21 U.S.C. 346a.)

Dated: June 26, 2025.
Kimberly Smith,
Acting Director, Information Technology and Resources Management Division, Office of Program Support.

[FR Doc. 2025-12404 Filed 7-2-25; 8:45 am]

BILLING CODE 6560-50-P